Proclamation 10192 of April 30, 2021

National Foster Care Month, 2021

By the President of the United States of America

A Proclamation

Every child deserves to grow up in a supportive, loving home where they can thrive and prosper. During those unfortunate times when children cannot remain safely in their own homes, the individuals and families who open their hearts and homes to foster children provide a vital service to their communities. During this National Foster Care Month, we share our gratitude for those who support youth and families by being a resource to children in need and supporting birth parents so that they may safely reunite with their families whenever possible. We also recognize that it takes collaboration and community effort—from local organizations to Federal agencies—to support children, birth parents, and resource and kin families during challenging times.

Young people in foster care have been particularly impacted by the COVID-19 pandemic. They are navigating circumstances that are already tough, and those challenges are compounded by a public health crisis that made housing, employment and educational opportunities even harder to access.

To support the immediate needs of youth in foster care, my Administration is implementing Federal programs authorized by the Supporting Foster Youth and Families through the Pandemic Act. This law provides additional flexibility and support for youth aging out of foster care, and allows them to access critical services to help them stay in school or participate in a job training program, pay the bills, and better make the difficult transition to adulthood. We have an expression in the Biden family, “If you have to ask for help, it's too late.” As a Nation, we can proactively help children by advancing a holistic approach to child and family well-being across the country—before it's too late.

As we work to address immediate needs, we must be clear about long-standing challenges in child welfare and commit to advancing child and family well-being in every way we can. Our children, birth parents, and resource and kin families deserve nothing less. So this National Foster Care Month, we also recognize the histories of injustice in our Nation's foster care system. Throughout our history and persisting today, too many communities of color, especially Black and Native American communities, have been treated unequally and often unfairly by the child welfare system. Black and Native American children are far more likely than white children to be removed from their homes, even when the circumstances surrounding the removal are similar. Once removed, Black and Native American children stay in care longer and are less likely to either reunite with their birth parents or be adopted. Too many children are removed from loving homes because poverty is often conflated with neglect, and the enduring effects of systemic racism and economic barriers mean that families of color are disproportionately affected by this as well. Children with disabilities are over-represented among youth in care and may be inappropriately placed in group settings instead of provided the individualized support they need. Children in foster care—particularly youth of color and LGBTQ+ children who are already subject to disproportionate rates of school discipline and criminalization—are also at an increased risk of becoming involved in the juvenile justice system. And for LGBTQ+ foster youth, foster care systems are not always equipped to safely meet their needs.

My Administration is committed to addressing these entrenched problems in our Nation's child welfare system, advancing equity and racial justice for every child and family who is touched by the foster care and child welfare system, and focusing on policies that improve child and family well-being. This is why my Administration's discretionary funding request for 2022 includes $100 million in competitive grants for State and local child welfare systems to advance racial equity and prevent unnecessary child removals.

National Foster Care Month is an opportunity for us to celebrate the resource and kin families who are supporting children by opening their homes and sharing their love. Crucially, it is also an opportunity to celebrate foster youth and all of their accomplishments, and to celebrate and encourage the many biological parents who are working hard to safely reunite with their children. And it provides an opportunity for us to fulfill our responsibility as a Nation to take care of each other and provide our vulnerable youth and families with the support they need.

NOW, THEREFORE, I, JOSEPH R. BIDEN JR., President of the United States of America, by virtue of the authority vested in me by the Constitution and the laws of the United States, do hereby proclaim May 2021 as National Foster Care Month. I call upon all Americans to observe this month by reaching out in their neighborhoods and communities to the children and youth in foster care and their families, those at risk of entering foster care, and resource and kin families and other caregivers.

IN WITNESS WHEREOF, I have hereunto set my hand this thirtieth day of April, in the year of our Lord two thousand twenty-one, and of the Independence of the United States of America the two hundred and forty-fifth.

[FR Doc. 2021-09573

Filed 5-4-21; 8:45 am]

Billing code 3295-F1-P